DEPARTMENT OF HOMELAND SECURITY

Federal Emergency Management Agency

[Docket ID FEMA-2013-0006]

Tribal Declarations Pilot Guidance

AGENCY: Federal Emergency Management Agency, DHS.

ACTION: Notice.

SUMMARY: This document provides notice of the availability of the final policy Tribal Declarations Pilot Guidance. The Federal Emergency Management Agency (FEMA) published a notice of availability and request for comment for the proposed policy on January 8, 2016 at 81 FR 943.

DATES: This policy is effective January 10, 2017.

ADDRESSES: This final policy is available online at http://www.regulations.gov and on FEMA's Web site at http://www.fema.gov. The proposed and final policy, all related Federal Register Notices, and all public comments received during the comment period are available at http://www.regulations.gov under docket ID FEMA-2013-0006. You may also view a hard copy of the final policy at the Office of Chief Counsel, Federal Emergency Management Agency, Room 8NE, 500 C Street SW., Washington, DC 20472.

FOR FURTHER INFORMATION CONTACT: Jessica Specht, Federal Emergency Management Agency, 500 C Street SW., Washington, DC 20472, 202-212-2288.

SUPPLEMENTARY INFORMATION: The Sandy Recovery Improvement Act of 2013 amended the Robert T. Stafford Disaster Relief and Emergency Assistance Act, as amended, 42 U.S.C. 5121 et seq., to provide federally-recognized Indian Tribal governments the option to request a Presidential emergency or major disaster declaration.¹ On January 8, 2016, FEMA published a notice seeking comment on a proposed pilot program to manage declaration requests from Indian Tribal governments. In response to comments received, FEMA made several revisions to the proposed guidance, including reducing the minimum damage amount from the proposed amount of $300,000 to $250,000, and expanding eligibility for individual assistance under a Tribal declaration to non-enrolled individuals who are members of the Tribal community.

¹ Public Law 113-2, 1110.

FEMA is now issuing a final policy implementing the pilot program. This final policy does not have the force or effect of law.

(Authority: Pub. L. 113-2.)

Dated: January 4, 2017.
W. Craig Fugate,
Administrator, Federal Emergency Management Agency.

[FR Doc. 2017-00315 Filed 1-9-17; 8:45 am]

BILLING CODE 9111-23-P